CONSUMER PRODUCT SAFETY COMMISSION

Sunshine Act Meeting Notice

TIME AND DATE: Wednesday, November 14, 2012, 10:00 a.m.-12:00 p.m.

PLACE: Room 420, Bethesda Towers, 4330 East West Highway, Bethesda, Maryland.

STATUS: Commission Meeting—Open to the Public.

Matters To Be Considered:

Briefing Matters:

1. Bedside Sleepers—Notice of Proposed Rulemaking;

2. Handheld Carriers—Notice of Proposed Rulemaking.

A live webcast of the Meeting can be viewed at www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: November 6, 2012.
Todd A. Stevenson,
Secretary.

[FR Doc. 2012-27486 Filed 11-7-12; 11:15 am]

BILLING CODE 6355-01-P